CHEMICAL SAFETY AND HAZARD INVESTIGATION BOARD

Information Collection Request 30-Day Notice

AGENCY: Chemical Safety and Hazard Investigation Board (CSB).

ACTION: 30-Day notice of submission of information collection request (ICR) approval and request for comments.

SUMMARY: The proposed information collection request (ICR) renewal described below will be submitted to the Office of Management and Budget (OMB) for review and approval, as required by the Paperwork Reduction Act of 1995 (PRA). The Chemical Safety Board (CSB) is soliciting public comments on this proposed collection renewal. The CSB on its own made additional changes to the survey instructions and survey questions. Additionally, the agency reviewed time considerations for completing the survey and increased the time to complete the survey. Previously, the CSB included information regarding interviews. This information collection request is only for the survey; the information regarding the interviews has been eliminated because the interviews do not fall under the PRA. The purpose of this notice is to allow for an additional 30 days of public comment.

DATES: Comments should be sent no later than 5 p.m. EST on Friday, December 8, 2023.

ADDRESSES: Interested persons are invited to submit comments regarding this proposal. When commenting on the proposed information collections, please reference the document identifier or OMB control number. To be assured consideration, comments and recommendations must be received by the OMB desk officer via one of the following transmissions within 30 days of publication of this notice: OMB, Office of Information and Regulatory Affairs, Attention: Chemical Safety Board Desk Officer, Fax Number: (202) 395-5806 OR, Email: OIRA_submission@omb.eop.gov.

Additionally, written comments and recommendations for the proposed information collection may be sent within 30 days of publication of this notice to www.reginfo.gov/public/do/PRAMain. To find this particular information collection request, select “Currently under 30-day Review—Open for Public Comments” or use the search function.

Requests for information, including copies of the information collection proposed and supporting documentation, should be directed to: Chris Lyon, Acting General Counsel, U.S. Chemical Safety and Hazard Investigation Board, at reactives@csb.gov.

FOR FURTHER INFORMATION CONTACT: Chris Lyon, Acting General Counsel, U.S. Chemical Safety and Hazard Investigation Board, 1750 Pennsylvania Ave. NW, Suite 910, Washington, DC 20006; reactives@csb.gov; or 202-261-7600.

SUPPLEMENTARY INFORMATION:

Title: CSB Reactive Hazard Study Survey of Industry Practices.

Type of Request: Approval.

Abstract: The enabling statute of the Chemical Safety and Hazard Investigation Board (CSB) provides that the CSB is “authorized to conduct research and studies with respect to the potential for accidental releases, whether or not an accidental release has occurred, where there is evidence which indicates the presence of a potential hazard or hazards.” 42 U.S.C. 7412(r)(6)(F).

In August 2000, the CSB initiated a review of reactive hazards nationwide. The purpose of the investigation was to develop recommendations to reduce the number and severity of such incidents. The CSB published Hazard Investigation: Improving Reactive Hazard Management on September 17, 2002. The CSB issued a total of 24 recommendations to 15 organizations. One recommendation and one superseded recommendation remain.

This information collection request will assist the CSB in updating its 2002 study, “Hazard Investigation: Improving Reactive Hazard Management.” On behalf of the CSB, the Federal Research Division (FRD) within the Library of Congress is conducting the study to compile current research, data, and company safety policies concerning reactive chemical incidents.

For this study, FRD on behalf of CSB intends on collecting survey data from 24 randomly selected small/medium and large companies that use reactive chemicals.

Type of Respondents: All the respondents will be private sector businesses that use reactive chemicals that voluntarily submit to the survey.

Estimate Annual Number of Respondents: 24. This represents the maximum number of respondents.

Frequency of Use: Once. This survey is part of a study.

Small Businesses or Organizations Affected: None. Although the CSB is contacting small businesses, this survey is voluntary. Additionally, the CSB anticipates a total of 15 companies will respond.

Estimated Number of Annual Responses: 24. This represents the maximum number of possible responses.

Estimated Average Burden Hours per Response: 6 hours. The survey should take a representative from each of the companies randomly selected four to eight hours to complete. The estimated financial burden for one process safety manager to take this survey is $375.57. For 15 surveys (the anticipated amount of responses), the total cost of process safety managers' time is estimated to be $5,633.55.¹

¹ The burden is calculated by taking the 6-hour time burden for a process safety manager multiplied by the number of surveys; an average Process Safety Manager makes $100,154 per year as of September 15, 2022, which in terms of hourly compensation is $48.15. $48.15 hourly pay * 1.3 (benefits) * 6 hours to complete * 15 surveys = 5,633.55. See “Process Safety Manager Salaries,” Glassdoor, Updated September 15, 2022, https://www.glassdoor.com/Salaries/process-safety-manager-salary-SRCH_KO0,22.htm.

Estimated Total Annual Burden Hours: 90 hours. This represents the total average burden (6 hours per 15 responses).

Need for and Use of Information: This research is vital because safely conducting chemical reactions is essential for the chemical manufacturing industry. Chemical reactive hazards can rapidly release large quantities of heat, energy, and gaseous byproducts. Uncontrolled reactions have led to serious explosions, fires, and toxic emissions. The impacts may be severe in terms of death and injury to people, damage to physical property, and effects on the environment and surrounding communities. Since the publication of the 2002 report, incidents caused by uncontrolled chemical reactions have persisted. This fact suggests the need to continue to evaluate existing standards and improve the management of reactive hazards in response to changes within the chemical manufacturing industry over the past two decades.

Researchers will use quantitative and qualitative mixed methods to analyze the collected industry information. The analysis will identify trends and present insights which will enhance the CSB's capacity to respond to future reactive chemical incidents and to inform industry stakeholders of the best practices in process safety protocols.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology. To view the draft protocol, please see: https://www.csb.gov/assets/1/6/csb_survey_draft_2023.11.02.pdf.

All comments received in response to this notice, including names and addresses when provided, will be a matter of public record. As of the time of this notice, the CSB has not received any comments. Comments will be summarized and included in the submission request toward Office of Management and Budget approval.

Dated: November 3, 2023.
Tamara Qureshi,
Assistant General Counsel, Chemical Safety and Hazard Investigation Board.

[FR Doc. 2023-24693 Filed 11-7-23; 8:45 am]

BILLING CODE 6350-01-P